DEPARTMENT OF ENERGY

Federal Energy Regulatory Commission

[Project No. 14345-001]

Rock River Beach, Inc.; Notice of Availability of Environmental Assessment

In accordance with the National Environmental Policy Act of 1969 and the Federal Energy Regulatory Commission's (Commission or FERC) regulations, 18 Code of Federal Regulations part 380 (Order No. 486, 52 FR 47879), the Office of Energy Projects has reviewed Rock River Beach, Inc.'s application for an original license to continue operating the unlicensed Rock River Beach Hydroelectric Project (FERC Project No. 14345-001). The 8.0-kilowatt project is located on the Rock River in Alger County, Michigan. The project does not occupy any federal land.

Staff prepared an environmental assessment (EA), which analyzes the potential environmental effects of licensing the project and concludes that licensing the project, with appropriate protective measures, would not constitute a major federal action significantly affecting the quality of the human environment.

A copy of the EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free number at 1-866-208-3676, or for TTY, 202-502-8659. You may also register online at www.ferc.gov/docs-filing/esubscription.asp to be notified via email of new filings and issuances related to this or other pending projects. For assistance, contact FERC Online Support.

Any comments should be filed within 30 days from the date of this notice. The Commission strongly encourages electronic filing. Please file the requested information using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14345-001.

Dated: March 7, 2014.
Kimberly D. Bose,
Secretary.

[FR Doc. 2014-05627 Filed 3-13-14; 8:45 am]

BILLING CODE 6717-01-P